DEPARTMENT OF TRANSPORTATION

Federal Aviation Administration

14 CFR Part 39

[Docket No. FAA-2004-18787; Directorate Identifier 2003-NM-264-AD]

RIN 2120-AA64

Airworthiness Directives; Fokker Model F27 Mark 100, 200, 300, 400, 500, 600, and 700 Series Airplanes

AGENCY: Federal Aviation Administration (FAA), DOT.

ACTION: Notice of proposed rulemaking (NPRM).

SUMMARY: The FAA proposes to adopt a new airworthiness directive (AD) for all Fokker Model F27 Mark 100, 200, 300, 400, 500, 600, and 700 series airplanes. This proposed AD would require a one-time high-frequency eddy current inspection for cracking of the attachment lugs of the aileron spring tab balance unit, and corrective actions if necessary. This proposed AD is prompted by a report indicating that, during heavy turbulence, a pilot needed to apply aileron trim to maintain level flight because cracking of the upper inboard attachment lug of the aileron spring tab balance unit, probably due to corrosion, had caused permanent deflection of the spring tab and consequent aileron damage. We are proposing this AD to prevent diminished control of the airplane in turbulence or total loss of roll control for the affected wing.

DATES: We must receive comments on this proposed AD by September 7, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand delivery: Room PL-401 on the plaza level of the Nassif Building, 400 Seventh Street, SW., Washington, DC, between 9 a.m. and 5 p.m., Monday through Friday, except Federal holidays.

You can get the service information identified in this proposed AD from Fokker Services B.V., P.O. Box 231, 2150 AE Nieuw-Vennep, The Netherlands.

You can examine the contents of this AD docket on the Internet at http://dms.dot.gov, or at the Docket Management Facility, U.S. Department of Transportation, 400 Seventh Street, SW., room PL-401, on the plaza level of the Nassif Building, Washington, DC.

FOR FURTHER INFORMATION CONTACT: Tom Rodriguez, Aerospace Engineer; International Branch, ANM-116, FAA, Transport Airplane Directorate, 1601 Lind Avenue, SW., Renton, Washington 98055-4056; telephone (425) 227-1137; fax (425) 227-1149.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18787; Directorate Identifier 2003-NM-264-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority-The Netherlands (CAA-NL), which is the airworthiness authority for the Netherlands, notified us that an unsafe condition may exist on all Fokker Model F27 Mark 100, 200, 300, 400, 500, 600, and 700 series airplanes. The CAA-NL advises that it received a report indicating that, during heavy turbulence, a pilot needed to apply aileron trim to maintain level flight because of cracking of the upper inboard attachment lug of the aileron spring tab balance unit, probably due to corrosion, which caused permanent deflection of the spring tab and consequent aileron damage. This condition, if not corrected, could result in diminished control of the airplane in turbulence or total loss of roll control for the affected wing.

Relevant Service Information

Fokker Services B.V. has issued Fokker Service Bulletin F27/27-137, dated March 19, 2003. The service bulletin describes procedures for a one-time high-frequency eddy current inspection of the attachment lugs of the aileron spring tab balance unit (including any removal of loose paint and/or corrosion); reworking of the balance unit attachment lugs; and replacement of the balance unit, if necessary. We have determined that accomplishing the actions specified in the service information will adequately address the unsafe condition. The CAA-NL mandated the service information and issued Dutch airworthiness directive 2003-037, dated March 31, 2003, to ensure the continued airworthiness of these airplanes in the Netherlands.

FAA's Determination and Requirements of the Proposed AD

This airplane model is manufactured in the Netherlands and is type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that AD action is necessary for products of this type design that are certificated for operation in the United States.

Therefore, we are proposing this AD, which would require a one-time high-frequency eddy current inspection of the attachment lugs of the aileron spring tab balance unit, with any needed removal of loose paint and/or corrosion, reworking of the balance unit attachment lugs, and replacement of the balance unit, if necessary. The proposed AD would require you to use the service information described previously to perform these actions, except as discussed under “Differences Between the Proposed AD and Service Bulletin.”

Differences Between the Proposed AD and Service Bulletin

Although the referenced service bulletin describes procedures for reporting certain information to Fokker Services B.V., this proposed AD would not require that action. We do not need this information from operators.

Although the referenced service bulletin specifies that you may contact the manufacturer for instructions on how to repair certain conditions, this proposed AD would require you to repair those conditions using a method that we or the CAA-NL (or its delegated agent) approve. In light of the type of repair that would be required to address the unsafe condition, and consistent with existing bilateral airworthiness agreements, we have determined that, for this proposed AD, a repair we or the CAA-NL approve would be acceptable for compliance with this proposed AD.

Interim Action

We consider this proposed AD interim action. If final action is later identified, we may consider further rulemaking then.

Costs of Compliance

This proposed AD would affect about 38 airplanes of U.S. registry. The proposed actions would take about 5 work hours per airplane, at an average labor rate of $65 per work hour. Based on these figures, the estimated cost of the proposed AD for U.S. operators is $12,350, or $325 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Fokker Services B.V.: Docket No. FAA-2004-18787; Directorate Identifier 2003-NM-264-AD.

Comments Due Date

(a) The Federal Aviation Administration must receive comments on this AD action by September 7, 2004.

Affected ADs

(b) None.

Applicability

(c) This AD applies to all Fokker Model F27 Mark 100, 200, 300, 400, 500, 600, and 700 series airplanes; certificated in any category.

Unsafe Condition

(d) This AD was prompted by a report indicating that, during heavy turbulence, a pilot needed to apply aileron trim to maintain level flight because cracking of the upper inboard attachment lug of the aileron spring tab balance unit, probably due to corrosion, had caused permanent deflection of the spring tab and consequent aileron damage. We are issuing this AD to prevent diminished control of the airplane in turbulence or total loss of roll control for the affected wing.

Compliance

(e) You are responsible for having the actions required by this AD performed within the compliance times specified, unless the actions have already been done.

Inspection

(f) Within 24 months after the effective date of this AD, perform a one-time high-frequency eddy current inspection for cracking of the attachment lugs of the aileron spring tab balance units by doing all the actions in the Accomplishment Instructions of Fokker Service Bulletin F27/27-137, dated March 19, 2003. If no loose paint, corrosion damage, or crack is found during this inspection, no further action is required by this AD.

Repair and Rework of Attachment Lugs

(g) If no crack is found during the inspection required by paragraph (f) of this AD, but it was necessary to remove loose paint or corrosion to perform the inspection: Prior to further flight, rework the attachment lugs in accordance with the Accomplishment Instructions of Fokker Service Bulletin F27/27-137, dated March 19, 2003. If corrosion damage has caused any attachment lug to exceed the dimensional limits specified in the service bulletin: Prior to further flight, replace the aileron spring tab balance unit with a serviceable unit, in accordance with the Accomplishment Instructions of Fokker Service Bulletin F27/27-137, dated March 19, 2003, or repair the lug in accordance with a method approved by the Manager, International Branch, ANM-116, FAA, Transport Airplane Directorate; or the Civil Aviation Authority-The Netherlands (CAA-NL) (or its delegated agent).

Replacement

(h) If any crack is found during the inspection required by paragraph (f) of this AD: Prior to further flight, replace the aileron spring tab balance unit with a serviceable unit, in accordance with the Accomplishment Instructions of Fokker Service Bulletin F27/27-137, dated March 19, 2003.

No Reporting Requirement

(i) Although Fokker Service Bulletin F27/27-137, dated March 19, 2003, specifies to submit certain information to Fokker Services B.V., this AD does not include such a requirement.

Alternative Methods of Compliance (AMOCs)

(j) The Manager, International Branch, ANM-116, FAA, has the authority to approve AMOCs for this AD, if requested in accordance with the procedures found in 14 CFR 39.19.

Related Information

(k) Dutch airworthiness directive 2003-037, dated March 31, 2003, also addresses the subject of this AD.

Issued in Renton, Washington, on July 30, 2004.
Ali Bahrami,
Manager, Transport Airplane Directorate, Aircraft Certification Service.

[FR Doc. 04-17987 Filed 8-5-04; 8:45 am]

BILLING CODE 4910-13-P